FEDERAL COMMUNICATIONS COMMISSION

47 CFR Part 73

[DA 06-1583; MB Docket No. 05-45; RM-11147; RM-11246]

Radio Broadcasting Service; Atwood, Kansas; Burlington and Flagler, Colorado; McCook and Ogallala, Nebraska

AGENCY: Federal Communications Commission.

ACTION: Final rule.

SUMMARY: The Audio Division, at the request of KNAB, Inc., allots Channel 292C0 at Atwood, Kansas, as the community's first local aural transmission service (RM-11246). To accommodate the allotment, we also substitute Channel 294C1 for Channel 293C1 at Ogallala, Nebraska, and the modify Station KMCX-FM's license accordingly. We deny the petition filed by Border Alliance of Broadcasters proposing the allotment of Channel 280C0 at Atwood, Kansas, and the proposed changes required to accommodate the proposal (RM-11147). Channel 292C0 can be allotted to Atwood in compliance with the Commission's minimum distance separation requirement with a site restriction of 14.8 kilometers (9.2 miles) southeast to avoid a short-spacing to the licensed site of Station KQNK-FM, Channel 294A, Norton, Kansas. The reference coordinates for Channel 292C0 at Atwood are 39-43-51 North Latitude and 100-53-58 West Longitude. Additionally, Channel 294C1 can be substituted at Ogallala at Station KMCX-FM's currently authorized site. The reference coordinates for Channel 294C1 at Ogallala are 41-08-02 North Latitude and 101-41-42 West Longitude.

DATES: Effective September 18, 2006. A filing window for Channel 292C0 at Atwood, Kansas, will not be opened at this time. Instead, the issue of opening this allotment for auction will be addressed by the Commission in a subsequent order. Because the allotment requires the substitution of Channel 294C1 for Channel 293C1 at Ogallala, Nebraska, any requisite conditions for the channel change will be stipulated in said order.

ADDRESSES: Secretary, Federal Communications Commission, 445 Twelfth Street, SW., Washington, DC 20554.

FOR FURTHER INFORMATION CONTACT: Sharon P. McDonald, Media Bureau, (202) 418-2180.

SUPPLEMENTARY INFORMATION: This is a synopsis of the Commission's Report and Order, MB Docket No. 05-45, adopted August 2, 2006, and released August 4, 2006. The full text of this Commission decision is available for inspection and copying during regular business hours at the FCC's Reference Information Center, Portals II, 445 12th Street, SW, Room CY-A257, Washington, DC 20554. The complete text of this decision may also be purchased from the Commission's duplicating contractor, Best Copy and Printing, Inc., 445 12th Street, SW, Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR Part 73 as follows:

PART 73—RADIO BROADCAST SERVICES

1. The authority citation for part 73 continues to read as follows:

Authority: 47 U.S.C. 154, 303, 334, 336.

§ 73.202 [Amended]

2. Section 73.202(b), the Table of FM Allotments under Kansas, is amended by adding Atwood, Channel 292C0.

3. Section 73.202(b), the Table of FM Allotments under Nebraska, is amended by removing Channel 293C1 and by adding Channel 294C1 at Ogallala.

Federal Communications Commission.
John A. Karousos,
Assistant Chief, Audio Division, Media Bureau.

[FR Doc. E6-13748 Filed 8-22-06; 8:45 am]

BILLING CODE 6712-01-P